Title 3—

The President

Executive Order 13213 of May 22, 2001

Additional Measures With Respect To Prohibiting the Importation of Rough Diamonds From Sierra Leone

By the authority vested in me as President by the Constitution and the laws of the United States of America, including the International Emergency Economic Powers Act (50 U.S.C. 1701 et seq.) (IEEPA), the National Emergencies Act (50 U.S.C. 1601 et seq.), section 5 of the United Nations Participation Act of 1945, as amended (22 U.S.C. 287c) (UNPA), and section 301 of title 3, United States Code, and in view of the national emergency described and declared in Executive Order 13194 of January 18, 2001, and United Nations Security Council Resolutions 1306 of July 5, 2000, and 1343 of March 7, 2001,

I, GEORGE W. BUSH, President of the United States of America, take note that in Executive Order 13194, the President responded to, among other things, the insurgent Revolutionary United Front's (RUF) illicit trade in diamonds to fund its operations in the civil war in Sierra Leone by declaring a national emergency and, consistent with United Nations Security Council Resolution 1306, by prohibiting the importation into the United States of all rough diamonds from Sierra Leone except for those importations controlled through the Certificate of Origin regime of the Government of Sierra Leone. United Nations Security Council Resolution 1343 takes note that the bulk of RUF diamonds leaves Sierra Leone through Liberia and that such illicit trade cannot be conducted without the permission and involvement of Liberian government officials at the highest levels; determines that the active support provided by the Government of Liberia for the RUF and other armed rebel groups in neighboring countries constitutes a threat to international peace and security in the region; and decides that all states shall take the necessary measures to prevent the importation of all rough diamonds from Liberia, whether or not such diamonds originated in Liberia. The Government of Liberia's complicity in the RUF's illicit trade in diamonds and its other forms of support for the RUF are direct challenges to United States foreign policy objectives in the region as well as to the rule-based international order that is crucial to the peace and prosperity of the United States. Therefore, I find these actions by the Government of Liberia contribute to the unusual and extraordinary threat to the foreign policy of the United States described in Executive Order 13194 with respect to which the President declared a national emergency. In order to deal with that threat and to ensure further that the direct or indirect importation into the United States of rough diamonds from Sierra Leone will not contribute financial support to further aggressive actions by the RUF or to the RUF's procurement of weapons; to implement United Nations Security Council Resolution 1343; and to counteract, among other things, the Government of Liberia's facilitation of and participation in the RUF's illicit trade in diamonds through Liberia, I hereby order the following additional measures be taken with respect to prohibiting the importation of rough diamonds from Sierra Leone:

Section 1. Except to the extent provided in regulations, orders, directives, or licenses issued pursuant to this order, and notwithstanding the existence of any rights or obligations conferred or imposed by any international agreement or any contract entered into or any license or permit granted prior to the effective date of this order, the direct or indirect importation into the United States of all rough diamonds from Liberia, whether or not such diamonds originated in Liberia, on or after the effective date of this order is prohibited.

Sec. 2. Any transaction by a United States person or within the United States that evades or avoids, or has the purpose of evading or avoiding, or attempts to violate, any of the prohibitions set forth in this order is prohibited. Any conspiracy formed to violate any of the prohibitions set forth in this order is prohibited.

Sec. 3. The definitions contained in section 4 of Executive Order 13194 apply to the terms used in this order.

Sec. 4. The Secretary of the Treasury, in consultation with the Secretary of State, is hereby authorized to take such actions, including the promulgation of rules and regulations, and to employ all powers granted to the President by IEEPA and UNPA, as may be necessary to carry out the purposes of this order. The Secretary of the Treasury may redelegate any of these functions to other officers and agencies of the United States Government. All agencies of the United States Government are hereby directed to take all appropriate measures within their authority to carry out the provisions of this order, including modification, suspension, or termination of licenses or authorizations in effect as of the date of this order.

Sec. 5. This order is not intended to create, nor does it create, any right, benefit, or privilege, substantive or procedural, enforceable at law by a party against the United States, its agencies, officers, or any other person.

Sec. 6. (a) This order is effective at 12:01 a.m. eastern daylight time on May 23, 2001.

(b) This order shall be transmitted to the Congress and published in the Federal Register.

B

THE WHITE HOUSE,

May 22, 2001.

[FR Doc. 01-13381

Filed 05-23-01; 12:03 pm]

Billing code 3195-01-P